DEPARTMENT OF THE INTERIOR

National Park Service

Notice of Inventory Completion: Paul H. Karshner Memorial Museum, Puyallup, WA

AGENCY: National Park Service, Interior.

ACTION: Notice.

Notice is here given in accordance with the Native American Graves Protection and Repatriation Act (NAGPRA), 25 U.S.C. 3003, of the completion of an inventory of human remains in the possession of the Paul H. Karshner Memorial Museum, Puyallup, WA. The human remains were removed from La Plata County, CO.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Paul H. Karshner Memorial Museum professional staff in consultation with representatives of the Southern Ute Indian Tribe of the Southern Ute Reservation, Colorado.

In the 1940s, human remains representing a minimum of one individual were removed from La Plata County, CO. The human remains were donated by Mark Porter in the 1940s. It is unknown how Mr. Porter acquired the human remains. No known individual was identified. No associated funerary objects are present.

This individual is the only recorded donation by Mr. Porter found in the museum's inventory book. However, Mr. Porter was known to have collected Native American objects. Based on the collecting practices of the donor, the human remains are reasonably believed to be Native American. In addition, the museum's inventory book identifies the human remains as being “native” and from the western Colorado region. The western Colorado area is known to be the aboriginal lands for the Southern Ute Indian Tribe of the Southern Ute Reservation, Colorado. Based on museum records and geographical location, officials of the Paul H. Karshner Memorial Museum reasonably believe that the human remains are Native American and culturally affiliated to the Southern Ute Indian Tribe of the Southern Ute Reservation, Colorado.

Officials of the Paul H. Karshner Memorial Museum have determined that, pursuant to 25 U.S.C. 3001 (9-10), the human remains described above represent the physical remains of one individual of Native American ancestry. Officials of the Paul H. Karshner Memorial Museum also have determined that, pursuant to 25 U.S.C. 3001 (2), there is a relationship of shared group identity that can be reasonably traced between the Native American human remains and the Southern Ute Indian Tribe of the Southern Ute Reservation, Colorado.

Representatives of any other Indian tribe that believes itself to be culturally affiliated with the human remains should contact Dr. Jay Reifel, Assistant Superintendent, telephone (253) 840-8971 or Ms. Beth Bestrom, Museum Curator, Paul H. Karshner Memorial Museum, 309 4th St. NE, Puyallup, WA 98372, telephone (253) 841-8748, before February 14, 2008. Repatriation of the human remains to the Southern Ute Indian Tribe of the Southern Ute Reservation, Colorado may proceed after that date if no additional claimants come forward.

The Paul H. Karshner Memorial Museum is responsible for notifying the Hopi Tribe of Arizona; Southern Ute Indian Tribe of the Southern Ute Reservation, Colorado; Ute Indian Tribe of the Uintah & Ouray Reservation, Utah; and Ute Mountain Tribe of the Ute Mountain Reservation, Colorado, New Mexico & Utah that this notice has been published.

Dated: December 7, 2007
Sherry Hutt,
Manager, National NAGPRA Program.

[FR Doc. E8-557 Filed 1-14-08; 8:45 am]

BILLING CODE 4312-50-S